DEPARTMENT OF HEALTH AND HUMAN SERVICES

National Institutes of Health

Center for Scientific Review; Amended Notice of Meeting

Notice is hereby given of a change in the meeting of the AIDS Clinical Studies and Epidemiology Study Section, November 1, 2006, 8 a.m. to November 2, 2006, 5 p.m., Ritz-Carlton Hotel, 1700 Tysons Boulevard, McLean, VA, 22102 which was published in the Federal Register on October 16, 2006, 71 FR 60744-60746.

The starting time of the meeting on November 1, 2006 has been changed to 2 p.m. until adjournment. The meeting dates and location remain the same. The meeting is closed to the public.

Dated: October 30, 2006.
Anna Snouffer,
Acting Director, Office of Federal Advisory Committee Policy.

[FR Doc. 06-9054 Filed 11-2-06; 8:45 am]

BILLING CODE 4140-01-M